DEPARTMENT OF THE INTERIOR

Fish and Wildlife Service

50 CFR Part 17

[FWS-R6-ES-2008-0022; 1111 FY07 MO-B2]

Endangered and Threatened Wildlife and Plants; Initiation of Status Review for the Greater Sage-Grouse (Centrocercus urophasianus) as Threatened or Endangered

AGENCY: Fish and Wildlife Service, Interior.

ACTION: Notice; initiation of status review and solicitation of new information; extension of period for submitting information.

SUMMARY: We, the U.S. Fish and Wildlife Service (Service), announce the extension of the period for submitting information that is pertinent to our status review of the greater sage-grouse (Centrocercus urophasianus). The extension will provide the public and Federal, State, and local agencies with an additional opportunity to submit information for the status review. Information previously submitted need not be resubmitted; it already has been incorporated into the public record and will be fully considered in the status review.

DATES: To allow us adequate time to conduct this review, we request that information be submitted on or before June 27, 2008.

ADDRESSES: You may submit information by one of the following methods:

• Federal eRulemaking Portal: http://www.regulations.gov. Follow the instructions for submitting comments.

• U.S. mail or hand-delivery: Public Comments Processing, Attn: FWS-R6-ES-2008-0022; Division of Policy and Directives Management; U.S. Fish and Wildlife Service; 4401 N. Fairfax Drive, Suite 222, Arlington, VA 22203.

We will not accept e-mail or faxes. We will post all information received on http://www.regulations.gov. This generally means that we will post any personal information you provide us (see the Information Solicited section below for more details).

FOR FURTHER INFORMATION CONTACT: The U.S. Fish and Wildlife Service's Wyoming Ecological Services Field Office, 5353 Yellowstone Road, Suite 308A, Cheyenne, WY 82009; telephone 307-772-2374. People who use a telecommunications device for the deaf (TDD) may call the Federal Information Relay Service (FIRS) at 800-877-8339.

SUPPLEMENTARY INFORMATION:

Information Solicited

To ensure that the status review is complete and based on the best scientific and commercial information available, we are soliciting information concerning the status of the greater sage-grouse. Information submitted prior to January 12, 2005, will be considered and need not be resubmitted. New information submitted since the initiation of the current status review on February 26, 2008 (73 FR 10218) need not be resubmitted. We request information from the public, governmental agencies, Native American Tribes, the scientific community, industry, or any other interested parties on the status of the greater sage-grouse throughout its range, including:

(1) Information regarding the species' historical and current population status, distribution, and trends; its biology and ecology; and habitat selection.

(2) Information on the effects of potential threat factors that are the basis for a listing determination under section 4(a) of the Act, which are:

(a) The present or threatened destruction, modification, or curtailment of the species' habitat or range;

(b) overutilization for commercial, recreational, scientific, or educational purposes;

(c) disease or predation;

(d) the inadequacy of existing regulatory mechanisms; or

(e) other natural or manmade factors affecting its continued existence.

(3) Information on management programs for the conservation of the greater sage-grouse.

Please note that submissions merely stating support of or opposition to any potential decisions based on the status review without providing relevant information, although noted, will not be considered, because section 4(b)(1)(A) of the Act (16 U.S.C. 1531 et seq.) directs that determinations as to whether any species is a threatened or endangered species must be made “solely on the basis of the best scientific and commercial data available.” We intend to use the status review as the basis for determining whether listing the species is warranted, not warranted, or warranted but precluded.

You may submit information concerning this status review by one of the methods listed in the ADDRESSES section. We will not consider submissions sent by e-mail or fax or to an address not listed in the ADDRESSES section.

If you submit information via http://www.regulations.gov, your entire submission—including any personal identifying information—will be posted on the website. If your submission is made via a hardcopy that includes personal identifying information, you may request at the top of your document that we withhold this personal information from public review. However, we cannot guarantee that we will be able to do so. We will post all hardcopy submissions on http://www.regulations.gov.

Information and materials we receive will be available for public inspection on http://www.regulations.gov, or by appointment, during normal business hours, at the U.S. Fish and Wildlife Service's Wyoming Ecological Services Field Office, 5353 Yellowstone Road, Suite 308A, Cheyenne, WY 82009; telephone 307-772-2374.

Background

On February 26, 2008, we announced the initiation of a status review for the greater sage-grouse (Centrocercus urophasianus), and requested that information regarding the status of the greater sage-grouse be submitted by May 27, 2008 (73 FR 10218). We are extending that period by 30 days, until June 27, 2008, to allow the public ample opportunity to provide information relevant to this status review.

Information previously submitted will be considered and need not be resubmitted. We will base our status review on the best scientific and commercial information available, including all such information received as a result of this notice. For more information on the biology, habitat, and range of the greater sage-grouse, please refer to our previous 12-month finding published in the Federal Register on January 12, 2005 (70 FR 2244).

Elsewhere in today's Federal Register, we have published separate notices of 90-day petition findings and the initiation of status reviews for the Mono Basin population and the western subspecies of the greater sage-grouse (C. u. phaios). Consequently, at this time the Service has formally initiated three status reviews involving the greater sage-grouse, and the respective notices in today's Federal Register each request that information be submitted by June 27, 2008. Information submitted for any one of these status reviews that is relevant to the others need not be submitted more than once. Because the status review of the greater sage-grouse that we initiated on February 26, 2008 (73 FR 10218) covers the entire range of the species, it encompasses the Mono Basin population and the western subspecies of the greater sage-grouse. It is our intention to address the taxonomy and status of the Mono Basin area population and the western subspecies within the rangewide status review of the greater sage-grouse. Further, because the three status reviews are somewhat interrelated, we anticipate that any interrelated aspects will be taken into account in our ultimate decisions.

Author

The primary author of this notice is the staff of the Wyoming Fish and Wildlife Office (see FOR FURTHER INFORMATION CONTACT).

Authority

The authority for this action is the Endangered Species Act of 1973, as amended (16 U.S.C. 1531 et seq.).

Dated: April 18, 2008.
Kenneth Stansell,
Acting Director, U.S. Fish and Wildlife Service.

[FR Doc. E8-9181 Filed 4-28-08; 8:45 am]

BILLING CODE 4310-55-P